NUCLEAR REGULATORY COMMISSION

[Docket No. 50-361; NRC-2013-0070]

Application and Amendment to Facility Operating License Involving Proposed No Significant Hazards Consideration Determination; San Onofre Nuclear Generating Station, Unit 2

AGENCY: Nuclear Regulatory Commission.

ACTION: License amendment application; withdrawal.

ADDRESSES: Please refer to Docket ID NRC-2013-0070 when contacting the NRC about the availability of information regarding this document. You may access information related to this document, which the NRC possesses and is publicly available, using any of the following methods:

• Federal Rulemaking Web site: Go to http://www.regulations.gov and search for Docket ID NRC-2013-0070. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Brian Benney, Office of Nuclear Reactor Regulation, U.S. Nuclear Regulatory Commission, Washington, DC 20555; telephone: 301-415-2767; email: Brian.Benney@nrc.gov.

SUPPLEMENTARY INFORMATION: The U.S. Nuclear Regulatory Commission (NRC) has granted the request of Southern California Edison (the licensee) to withdraw its April 5, 2013, application (ADAMS Accession No. ML13098A043), for proposed amendment to Facility Operating License No. NPF-10 for the San Onofre Nuclear Generating Station (SONGS), Unit 2, located in San Diego County, California.

The proposed amendment would have revised the facility Technical Specification 5.5.2.11.b.1 to require that compliance with the steam generator structural integrity performance criterion (SIPC) be demonstrated up to 70% Rated Thermal Power (2406.6 megawatts thermal), and added a footnote to the Facility Operating License Condition 2.C(1) “Maximum Power Level,” to restrict operation of SONGS Unit 2 to no more than 70% Rated Thermal Power for the SONGS Unit 2, Cycle 17.

The proposed amendment would have made a temporary change to the steam generator management program and the license condition for maximum power. For the duration of Unit 2, Cycle 17, the proposed amendment would have changed the terms “full range of normal operating conditions” and “normal steady state full power operation” and restricted operation to 70 percent of the maximum authorized power level. “Full range of normal operating conditions” and “normal steady state full power operation” would have been based upon the steam generators being operated under conditions associated with reactor core power levels up to 70 percent Rated Thermal Power (2406.6 megawatts thermal).

The Commission had previously issued a Notice of Consideration of Issuance of Amendment published in the Federal Register on April 16, 2013 (78 FR 22576). Subsequently, by letter dated June 12, 2013 (ADAMS Accession No. ML131640201), the licensee notified the NRC that SCE has permanently ceased power operation of SONGS Units 2 and 3, effective June 7, 2013. In addition, by letter dated June 13, 2013 (ADAMS Accession No. ML13165A217), the licensee notified the NRC that in light of the decision to permanently cease power operation of SONGS Units 2 and 3, the amendment request is withdrawn.

For further details with respect to this action, see the application for amendment dated April 5, 2013, as supplemented by letters dated April 9 and May 16, 2013 (ADAMS Accession Nos. ML13100A021 and ML13137A129, respectively), and the licensee's letters dated June 12 and 13, 2013, which notified the NRC of permanent cessation of power operation at SONGS Units 2 and 3, and withdrew the application for license amendment.

Dated at Rockville, Maryland, this 14th day of June, 2013.
For the Nuclear Regulatory Commission.
Douglas A. Broaddus,
Chief, SONGS Special Projects Branch, Division of Operating Reactor Licensing, Office of Nuclear Reactor Regulation.

[FR Doc. 2013-14912 Filed 6-20-13; 8:45 am]

BILLING CODE 7590-01-P